Title 3—

The President

Memorandum of December 11, 2024

Delegation of Functions and Authorities Under Sections 1352 and 1353 of the National Defense Authorization Act for Fiscal Year 2024

Memorandum for the Secretary of State[,] the Secretary of Defense[,] the Secretary of Energy[, and] the Director of the Office of Management and Budget

By the authority vested in me as President by the Constitution and the laws of the United States of America, including section 301 of title 3, United States Code:

Section 1. (a) I hereby delegate to the Secretary of State, in consultation with the Secretaries of Defense and Energy, the functions and authorities vested in the President by section 1352(a) of the National Defense Authorization Act for Fiscal Year 2024 (Public Law 118-31) (the “Act”).

(b) I hereby delegate to the Secretary of Defense, in consultation with the Secretaries of State and Energy and the Director of the Office of Management and Budget, the functions and authorities vested in the President by section 1352(e)(1)(A) of the Act.

(c) I hereby delegate to the Secretary of Energy, in consultation with the Secretary of Defense and the Director of the Office of Management and Budget, the functions and authorities vested in the President by section 1352(f)(2) of the Act.

(d) I hereby delegate to the Secretary of Defense for funds transferred to Department of Defense accounts and to the Secretary of Energy for funds transferred to Department of Energy accounts, in coordination with the Director of the Office of Management and Budget, the functions and authorities vested in the President by sections 1353(c), 1353(e)(1)(D), and 1353(e)(3) of the Act.

(e) I hereby delegate to the Director of the Office of Management and Budget, in consultation with the Secretaries of Defense and Energy, as appropriate, the functions and authorities vested in the President by sections 1353(a), 1353(e)(1)(A), 1353(e)(2), and 1353(f)(1) of the Act.

Sec. 2. The delegation in this memorandum shall apply to any provision of any future public law that is the same or substantially the same as the provision referenced in this memorandum.

Sec. 3. The Secretary of Defense is authorized and directed to publish this memorandum in the Federal Register.

THE WHITE HOUSE,

Washington, December 11, 2024

[FR Doc. 2024-29930

Filed 12-13-24; 11:15 am]

Billing code 6001-FR-P